DEPARTMENT OF TRANSPORTATION

Coast Guard

33 CFR Parts 127, 154, 155, 159, 164, and 183

46 CFR Parts 28, 30, 32, 34, 35, 38, 39, 54, 56, 58, 61, 63, 76, 77, 78, 92, 95, 96, 97, 105, 108, 109, 110, 111, 114, 119, 125, 151, 153, 154, 160, 161, 162, 163, 164, 170, 174, 175, 182, 190, 193, 195, and 199

[USCG-1999-5151]

RIN 2115-AF80

Update of Standards From the American Society for Testing and Materials (ASTM)

AGENCY: Coast Guard, DOT.

ACTION: Direct final rule; confirmation of effective date.

SUMMARY: On December 1, 1999, the Coast Guard published a direct final rule [64 FR 67170]. This rule notified the public of our intent to amend Titles 33 and 46, Code of Federal Regulations, to render current the standards incorporated by reference from ASTM. We have not received an adverse comment, or notice of intent to submit an adverse comment, objecting to this rule. Therefore, this rule will go into effect as scheduled.

DATES: The direct final rule is, as we said it would be, effective on February 29, 2000. The incorporation by reference of publications in this rule was approved by the Director of the Federal Register to be effective on February 29, 2000.

FOR FURTHER INFORMATION CONTACT: For questions on this rule, call Ms. Janet Walton, Office of Standards, Evaluation and Development (G-MSR), U.S. Coast Guard, telephone 202-267-0257.

SUPPLEMENTARY INFORMATION:

Discussion of Comments

The Coast Guard received no comments in response to the direct final rule. Therefore, this rule will go into effect as scheduled.

Dated: February 24, 2000.
Joseph J. Angelo,
Acting Assistant Commandant for Marine Safety and Environmental Protection.

[FR Doc. 00-4806 Filed 2-29-00; 8:45 am]

BILLING CODE 4910-15-U